DEPARTMENT OF TRANSPORTATION

Federal Aviation Administration

14 CFR Part 39

[Docket No. FAA-2012-1163; Directorate Identifier 2011-NM-246-AD]

RIN 2120-AA64

Airworthiness Directives; Airbus Airplanes

AGENCY: Federal Aviation Administration (FAA), DOT.

ACTION: Notice of proposed rulemaking (NPRM).

SUMMARY: We propose to supersede an existing airworthiness directive (AD) that applies to all Airbus Model A330-200 and -300 series airplanes; and Model A340-200, -300, -500, and -600 series airplanes. The existing AD currently requires a one-time detailed inspection of both main landing gear (MLG) bogie beams in the region of the bogie stop pad for detection of deformation and damage, and corrective actions if necessary. Since we issued that AD, we have received reports of corroded bogie stop pads, including some with cracking. This proposed AD would add Model A330-200 Freighter series airplanes to the applicability. For certain airplanes, this proposed AD would also add repetitive inspections for damage and corrosion of the sliding piston sub-assembly, with new related investigative and corrective actions. We are proposing this AD to detect and correct deformation or damage under the bogie stop pad of both MLG bogie beams, which could result in a damaged bogie beam and consequent detachment of the beam from the airplane or collapse of the MLG and departure of the airplane from the runway.

DATES: We must receive comments on this proposed AD by December 31, 2012.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this proposed AD, contact Airbus SAS—Airworthiness Office—EAL, 1 Rond Point Maurice Bellonte, 31707 Blagnac Cedex, France; telephone +33 5 61 93 36 96; fax +33 5 61 93 45 80; email airworthiness.A330-A340@airbus.com; Internet http://www.airbus.com. You may review copies of the referenced service information at the FAA, Transport Airplane Directorate, 1601 Lind Avenue SW., Renton, WA. For information on the availability of this material at the FAA, call 425-227-1221.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Vladimir Ulyanov, Aerospace Engineer, International Branch, ANM-116, Transport Airplane Directorate, FAA, 1601 Lind Avenue SW., Renton, Washington 98057-3356; telephone (425) 227-1138; fax (425) 227-1149.

SUPPLEMENTARY INFORMATION:

Comments Invited

We invite you to send any written relevant data, views, or arguments about this proposed AD. Send your comments to an address listed under the ADDRESSES section. Include “Docket No. FAA-2012-1163; Directorate Identifier 2011-NM-246-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

On January 14, 2010, we issued AD 2010-02-10, Amendment 39-16181 (75 FR 4477, January 28, 2010). That AD required actions intended to address an unsafe condition on Airbus Model A330-200 and -300 series airplanes; and Model A340-200, -300, -500, and -600 series airplanes.

Since we issued AD 2010-02-10, Amendment 39-16181 (75 FR 4477, January 28, 2010), the European Aviation Safety Agency (EASA), which is the Technical Agent for the Member States of the European Community, has issued EASA Airworthiness Directive 2011-0211, dated October 31, 2011 (referred to after this as “the MCAI”), to supersede EASA AD 2008-0223, dated December 15, 2008 (referred to in the existing AD), and correct an unsafe condition for the specified products. The MCAI states:

During a scheduled maintenance inspection on the MLG [main landing gear], the bogie stop pad was found deformed and cracked. Upon removal of the bogie stop pad for replacement, the bogie beam was also found cracked.

Laboratory investigation indicates that an overload event has occurred and no fatigue propagation of the crack was evident.

A second bogie beam crack has subsequently been found on another aeroplane, located under a bogie stop pad which only had superficial paint damage.

This condition, if not detected and corrected, could result in the aeroplane departing the runway or to the bogie detaching from the areoplane or gear collapses, which would all constitute unsafe conditions at speeds above 30 knots.

As a precautionary measure, EASA AD 2008-0223 [which corresponds to FAA AD 2010-02-10, Amendment 39-16181 (75 FR 4477, January 28, 2010] required one-time detailed inspections under the bogie stop pad of both MLG bogie beams and, in case deformation or damage is detected, to apply the associated repair.

Numerous bogie stop pad were found corroded and a few cracked as a result of the one-time inspection required by EASA AD 2008-0223 on A330, A340-200, and A340-300 aeroplanes.

For the reasons describe above, this [EASA] AD, which supersedes EASA AD 2008-0223:

—Retains the initial inspection requirement of EASA AD 2008-0223 for A330, A340-200, and A340-300 aeroplanes.

—Introduces a repetitive detailed visual inspection for A330, A340-200, and A340-300 aeroplanes.

—Retains the requirement of EASA AD 2008-0223 for A340-500 and A340-600 aeroplanes, for which further mandatory requirements might follow in future mandatory requirements might follow in future depending on the results of the one-time mandatory inspection in place.

The required actions include repetitive detailed inspections for damage and corrosion of the sliding piston sub-assembly, with new related investigative and corrective actions. Related investigative actions include a test for indications of corrosion and damage to the bogie assembly base material, and a magnetic particle inspection for cracks, corrosion, and damage of the bogie beam. Corrective actions include repairing affected parts.

You may obtain further information by examining the MCAI in the AD docket.

Relevant Service Information

Airbus has issued the following service bulletins:

• Airbus Mandatory Service Bulletin A330-32-3220, Revision 01, dated October 5, 2011 (for Model A330-200 and -300 series airplanes).

• Airbus Mandatory Service Bulletin A330-32-3248, including Appendix 1, dated October 5, 2011 (for Model A330-200, -200 Freighter, and -300 series airplanes).

• Airbus Mandatory Service Bulletin A340-32-4286, including Appendix 1, dated October 5, 2011 (for Model A340-200 and -300 series airplanes).

The actions described in this service information are intended to correct the unsafe condition identified in the MCAI.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Differences Between Proposed AD and Service Information

Although the service information specifies to contact the manufacturer for instructions to repair certain conditions, this proposed AD would require repairing those conditions using a method approved by the Manager, International Branch, ANM-116, Transport Airplane Directorate, FAA; or the EASA (or its delegated agent).

Costs of Compliance

Based on the service information, we estimate that this proposed AD would affect about 67 products of U.S. registry.

The actions that are required by AD 2010-02-10, Amendment 39-16181 (75 FR 4477, January 28, 2010), and retained in this proposed AD take about 2 work-hours per product, at an average labor rate of $85 per work hour. Based on these figures, the estimated cost of the currently required actions is $170 per product.

We estimate that it would take about 16 work-hours per product to comply with the new basic requirements of this proposed AD. The average labor rate is $85 per work-hour. Based on these figures, we estimate the cost of the proposed AD on U.S. operators to be $91,120, or $1,360 per product.

We have received no definitive data that would enable us to provide cost estimates for the on-condition actions specified in this proposed AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing airworthiness directive (AD) 2010-02-10, Amendment 39-16181 (75 FR 4477, January 28, 2010), and adding the following new AD:

Airbus: Docket No. FAA-2012-1163; Directorate Identifier 2011-NM-246-AD.

(a) Comments Due Date

We must receive comments by December 31, 2012.

(b) Affected ADs

This AD supersedes AD 2010-02-10, Amendment 39-16181 (75 FR 4477, January 28, 2010).

(c) Applicability

This AD applies to all Airbus Model A330-201, -202, -203, -223, -223F, -243, -243F, -301, -302, -303, -321, -322, -323, -341, -342, and -343 series airplanes; and Model A340-211, -212, -213, -311, -312, -313 series airplanes; and A340-541 and -642 airplanes; certificated in any category; all serial numbers.

(d) Subject

Air Transport Association (ATA) of America Code 32: Landing gear.

(e) Reason

This AD was prompted by reports of corroded bogie stop pads, some with cracking. We are issuing this AD to detect and correct deformation or damage under the bogie stop pad of both main landing gear (MLG) bogie beams, which could result in a damaged bogie beam and consequent detachment of the beam from the airplane or collapse of the MLG and departure of the airplane from the runway.

(f) Compliance

You are responsible for having the actions required by this AD performed within the compliance times specified, unless the actions have already been done.

(g) Retained One-Time Inspection and Corrective Actions, With Revised Service Information

This paragraph restates the requirements of paragraph (f)(1) of AD 2010-02-10, Amendment 39-16181 (75 FR 4477, January 28, 2010), with revised service information. For Model A330-200 and -300 series airplanes, and Model A340-200, -300, -500, and -600 series airplanes, except as required by paragraph (i) of this AD: At the applicable compliance time specified in paragraph (g)(1), (g)(2), (g)(3), (g)(4), (g)(5), or (g)(6) of this AD, perform one-time detailed inspections of both MLG bogie beams in the region of the bogie stop pad for detection of deformation and damage, and apply the applicable corrective actions, in accordance with the Accomplishment Instructions of the applicable service bulletin specified in paragraph (g)(7) of this AD. Do all applicable corrective actions before further flight.

(1) Airplanes with 22 months or less and 2,500 flight cycles or less from the first flight with the original bogie beam as of March 4, 2010 (the effective date of AD 2010-02-10, Amendment 39-16181 (75 FR 4477, January 28, 2010)): Not earlier than 2,500 flight cycles or 22 months on the original bogie beam, whichever occurs first, but not later than 40 months from first flight.

(2) Airplanes with 22 months or less and 2,500 flight cycles or less from the installation date of a new bogie beam in service as of March 4, 2010 (the effective date of AD 2010-02-10, Amendment 39-16181 (75 FR 4477, January 28, 2010)): Not earlier than 2,500 flight cycles or 22 months from the installation date of the new bogie beam, whichever occurs first, but not later than 40 months from the installation date of a new bogie beam in service.

(3) Airplanes with 22 months or less and 2,500 flight cycles or less from the installation date of an overhauled bogie beam in service as of March 4, 2010 (the effective date of AD 2010-02-10, Amendment 39-16181 (75 FR 4477, January 28, 2010)): Not earlier than 2,500 flight cycles or 22 months from the installation date of the overhauled bogie beam in service, whichever occurs first, but not later than 40 months from the installation date of the overhauled bogie beam in service.

(4) Airplanes with more than 22 months or more than 2,500 flight cycles from the first flight with the original bogie beam, as of March 4, 2010 (the effective date of AD 2010-02-10, Amendment 39-16181 (75 FR 4477, January 28, 2010)): Within 18 months after March 4, 2010 (the effective date of AD 2010-02-10).

(5) Airplanes with more than 22 months or more than 2,500 flight cycles from the installation date of a new bogie beam in service, as of March 4, 2010 (the effective date of AD 2010-02-10, Amendment 39-16181 (75 FR 4477, January 28, 2010)): Within 18 months after March 4, 2010 (the effective date of AD 2010-02-10).

(6) Airplanes with more than 22 months or more than 2,500 flight cycles from the installation date of an overhauled bogie beam in service, as of March 4, 2010 (the effective date of AD 2010-02-10, Amendment 39-16181 (75 FR 4477, January 28, 2010)): Within 18 months after March 4, 2010 (the effective date of AD 2010-02-10).

(7) Use the applicable service information to accomplish the actions required by paragraph (g) of this AD.

(i) For Model A330-200 and -300 series airplanes: Airbus Mandatory Service Bulletin A330-32-3220, dated October 10, 2008; or Airbus Mandatory Service Bulletin A330-32-3220, Revision 01, dated October 5, 2011.

(ii) For Model A340-200 and -300 series airplanes: Airbus Mandatory Service Bulletin A340-32-4264, dated October 10, 2008.

(iii) For Model A340-500 and -600 series airplanes: Airbus Mandatory Service Bulletin A340-32-5087, dated October 10, 2008.

(h) Retained Reporting Requirement

This paragraph restates the requirements of paragraph (f)(2) of AD 2010-02-10, Amendment 39-16181 (75 FR 4477, January 28, 2010). Report the results of the inspection required by paragraph (g) of this AD, including no findings, to Airbus, Customer Services Directorate, 1 Rond Point Maurice Bellonte, 31707 Blagnac Cedex France; Attn: SEDCC1 Technical Data and Documentation Services; fax (+33) 5 61 93 28 06; email sb.reporting@airbus.com; at the applicable time specified in paragraph (h)(1) or (h)(2) of this AD.

(1) If the inspection is done on or after March 4, 2010 (the effective date of AD 2010-02-10, Amendment 39-16181 (75 FR 4477, January 28, 2010)): Submit the report within 30 days after doing the inspection.

(2) If the inspection was done prior to March 4, 2010 (the effective date of AD 2010-02-10, Amendment 39-16181 (75 FR 4477, January 28, 2010)): Submit the report within 30 days after March 4, 2010 (the effective date of AD 2010-02-10).

(i) New Inspections of Beams That Have Not Been Inspected as of the Effective Date of This AD

For bogie beams on which the inspection required by paragraph (g) of this AD has not been accomplished as of the effective date of this AD: At the later of the times specified in paragraphs (i)(1) and (i)(2) of this AD, perform one-time detailed inspections of both main landing gear bogie beams in the region of the bogie stop pad for detection of deformation and damage, and apply the applicable corrective actions, in accordance with the Accomplishment Instructions of the applicable service information specified in paragraph (i)(3) of this AD. Do all applicable corrective actions before further flight.

(1) At the applicable time in paragraph (i)(1)(i) or (i)(1)(ii) of this AD.

(i) For bogie beams that have not been overhauled: Not earlier than 2,500 flight cycles or 22 months, whichever occurs first, on a bogie beam since its first flight on an airplane since new, but not later than 40 months since its first flight on an airplane since new.

(ii) For bogie beams that have been overhauled: Not earlier than 2,500 flight cycles or 22 months, whichever occurs first, on a bogie beam since its first flight on an airplane after its most recent overhaul, but not later than 40 months since its first flight on an airplane after its most recent overhaul.

(2) Within 90 days after the effective date of this AD.

(3) Use the applicable service information specified in paragraph (i)(3)(i), (i)(3)(ii), or (i)(3)(iii) of this AD, to accomplish the actions required by paragraph (i) of this AD.

(i) For Model A330-200 and -300 series airplanes: Airbus Mandatory Service Bulletin A330-32-3220, Revision 01, dated October 5, 2011.

(ii) For Model A340-200 and -300 series airplanes: Airbus Mandatory Service Bulletin A340-32-4264, dated October 10, 2008.

(iii) For Model A340-500 and -600 series airplanes: Airbus Mandatory Service Bulletin A340-32-5087, dated October 10, 2008.

(j) New Repetitive Inspections

Except for bogie beams that have been inspected as specified in Airbus Mandatory Service Bulletin A340-32-5087: At the later of the times specified in paragraphs (j)(1) and (j)(2) of this AD, do the detailed inspection of both MLG bogie beams in the bogie stop pad area for damage and corrosion, and all applicable related investigative and corrective actions, in accordance with the Accomplishment Instructions of Airbus Mandatory Service Bulletin A330-32-3248, dated October 5, 2011 (for Model A330-200, -200 Freighter, and -300 series airplanes); or Airbus Mandatory Service Bulletin A340-32-4286, dated October 5, 2011 (for Model A340-200 and -300 series airplanes); except as required by paragraph (k) of this AD. Do all applicable related investigative and corrective actions before further flight. Repeat the inspection thereafter at intervals not to exceed 2,500 flight cycles or 24 months, whichever is first.

(1) Within 2,500 flight cycles or 24 months, whichever occurs first, accumulated by a MLG bogie beam since its first flight after the most recent accomplishment of Airbus Mandatory Service Bulletin A330-32-3220 or A340-32-4264, as applicable.

(2) Within 3 months after the effective date of this AD.

(k) Service Information Exception

If any cracking of the bogie beam is detected during any inspection or repair required by paragraph (j) of this AD, or any repair required by paragraph (j) of this AD is beyond the maximum repair allowance specified in the service information required by paragraph (j) of this AD: Before further flight, repair using a method approved by either the Manager, International Branch, ANM-116, Transport Airplane Directorate, FAA; or the European Aviation Safety Agency (EASA) (or its delegated agent).

(l) New Reporting Requirement

Report the results of the initial inspection required by paragraph (j) of this AD, including both positive and negative findings, to Airbus, Customer Services Directorate, 1 Rond Point Maurice Bellonte, 31707 Blagnac Cedex France; Attn: SEDCC1 Technical Data and Documentation Services; fax (+33) 5 61 93 28 06; email sb.reporting@airbus.com at the applicable time specified in paragraph (l)(1) or (1)(2) of this AD.

(1) If the inspection is done on or after the effective date of this AD: Submit the report within 30 days after doing the inspection.

(2) If the inspection was done prior to the effective date of this AD: Submit the report within 30 days after the effective date of this AD.

(m) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Vladimir Ulyanov, Aerospace Engineer, International Branch, ANM-116, Transport Airplane Directorate, FAA, 1601 Lind Avenue SW., Renton, Washington 98057-3356; telephone (425) 227-1138; fax (425) 227-1149. Information may be emailed to: 9-ANM-116-AMOC-REQUESTS@faa.gov. Before using any approved AMOC, notify your appropriate principal inspector, or lacking a principal inspector, the manager of the local flight standards district office/certificate holding district office. The AMOC approval letter must specifically reference this AD. AMOCs approved previously in accordance with AD 2010-02-10, Amendment 39-16181 (75 FR 4477, January 28, 2010), are approved as AMOCs for the corresponding provisions of this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: A federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing, and reviewing the collection of information. All responses to this collection of information are mandatory. Comments concerning the accuracy of this burden and suggestions for reducing the burden should be directed to the FAA at: 800 Independence Ave. SW., Washington, DC 20591, Attn: Information Collection Clearance Officer, AES-200.

(n) Special Flight Permits

Special flight permits, as described in Section 21.197 and Section 21.199 of the Federal Aviation Regulations (14 CFR 21.197 and 21.199), are not allowed if any crack is found during any inspection required by this AD.

(o) Related Information

(1) Refer to MCAI EASA Airworthiness Directive 2011-0211, dated October 1, 2011, and the service information specified in paragraphs (o)(1)(i) through (o)(1)(vi) of this AD, for related information.

(i) Airbus Mandatory Service Bulletin A330-32-3220, dated October 10, 2008.

(ii) Airbus Mandatory Service Bulletin A330-32-3220, Revision 01, dated October 5, 2011.

(iii) Airbus Mandatory Service Bulletin A330-32-3248, dated October 5, 2011.

(iv) Airbus Mandatory Service Bulletin A340-32-4264, dated October 10, 2008.

(v) Airbus Mandatory Service Bulletin A340-32-4286, dated October 5, 2011.

(vi) Airbus Mandatory Service Bulletin A340-32-5087, dated October 10, 2008.

(2) For service information identified in this AD, contact Airbus SAS—Airworthiness Office—EAL, 1 Rond Point Maurice Bellonte, 31707 Blagnac Cedex, France; telephone +33 5 61 93 36 96; fax +33 5 61 93 45 80; email airworthiness.A330-A340@airbus.com; Internet http://www.airbus.com. You may review copies of the referenced service information at the FAA, Transport Airplane Directorate, 1601 Lind Avenue SW., Renton, WA. For information on the availability of this material at the FAA, call 425-227-1221.

Issued in Renton, Washington, on November 8, 2012.
Ali Bahrami,
Manager, Transport Airplane Directorate, Aircraft Certification Service.

[FR Doc. 2012-27847 Filed 11-15-12; 8:45 am]

BILLING CODE 4910-13-P